DEPARTMENT OF EDUCATION

34 CFR Chapter III

[Docket ID ED-2021-OSERS-0003]

Proposed Priority and Requirements—Training of Interpreters for Individuals Who Are Deaf or Hard of Hearing and Individuals Who Are DeafBlind Program

AGENCY: Office of Special Education and Rehabilitative Services, Department of Education.

ACTION: Proposed priority and requirements.

SUMMARY: The U.S. Department of Education (Department) proposes a priority and requirements for the Training of Interpreters for Individuals Who Are Deaf or Hard of Hearing and Individuals Who Are DeafBlind program, Assistance Listing Number 84.160D. The Department may use the priority and requirements for competitions in fiscal year 2021 and later years. We take this action to provide training to working interpreters in order to develop a new skill area or enhance an existing skill area.

DATES: We must receive your comments on or before April 1, 2021.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “How to use Regulations.gov” in the Help section.

• Postal Mail, Commercial Delivery, or Hand Delivery: If you mail or deliver your comments about the proposed priority and requirements, address them to Kristen Rhinehart-Fernandez, U.S. Department of Education, 400 Maryland Avenue SW, Room 5094, Potomac Center Plaza, Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Kristen Rhinehart-Fernandez, U.S. Department of Education, 400 Maryland Avenue SW, Room 5094, Potomac Center Plaza, Washington, DC 20202-2800. Telephone: (202) 245-6103. Email: Kristen.Rhinehart@ed.gov.

If you use a telecommunications device for the deaf (TDD) or a text telephone (TTY), call the Federal Relay Service (FRS), toll free, at 1-800-877-8339.

SUPPLEMENTARY INFORMATION: Invitation to Comment: We invite you to submit comments regarding the proposed priority and requirements. To ensure that your comments have maximum effect in developing the notice of final priority and requirements, we urge you to identify clearly the specific section of the proposed priority and requirements that each comment addresses.

In addition to your general comments and recommended clarifications, we seek input on the proposed design of the training. We are particularly interested in your feedback on the following questions:

1. Do the four specialty areas identified in the proposed priority meet the current needs in the field of interpreting for individuals who are deaf, hard of hearing, or DeafBlind? Are there other specialty areas that should be considered? If so, please provide information to demonstrate need and explain why.

2. Are there challenges to providing an induction experience for all participants as a requirement for successfully completing the program? For example, is there a limited number of potential induction opportunities that might be available for participants? If so, please provide information to describe any challenges and options for how induction opportunities may be reasonably incorporated into the training program.

We invite you to assist us in complying with the specific requirements of Executive Orders 12866 and 13563 and their overall requirement of reducing regulatory burden that might result from the proposed priority and requirements. Please let us know of any further ways we could reduce potential costs or increase potential benefits while preserving the effective and efficient administration of the program.

During and after the comment period, you may inspect all public comments about the proposed priority and requirements by accessing Regulations.gov. Due to the COVID-19 pandemic, the Department buildings are currently not open. However, upon reopening, you may also inspect the comments in person in Room 5059, 550 12th Street SW, Washington, DC, between the hours of 9:30 a.m. and 4:00 p.m., Eastern Time, Monday through Friday of each week except Federal holidays. Please contact the person listed under FOR FURTHER INFORMATION CONTACT.

Assistance to Individuals With Disabilities in Reviewing the Rulemaking Record: On request, we will provide an appropriate accommodation or auxiliary aid to an individual with a disability who needs assistance to review the comments or other documents in the public rulemaking record for the proposed priority and requirements. If you want to schedule an appointment for this type of accommodation or auxiliary aid, please contact the person listed under FOR FURTHER INFORMATION CONTACT.

Purpose of Program: Under the Rehabilitation Act of 1973, as amended (Rehabilitation Act), the Rehabilitation Services Administration (RSA) makes grants to public and private nonprofit agencies and organizations, including institutions of higher education, to establish interpreter training programs or to provide financial assistance for ongoing interpreter programs to train a sufficient number of qualified professionals (as defined in 34 CFR 396.4) throughout the country.

The purpose of the program is to train interpreters to effectively interpret and transliterate using spoken, visual, and tactile modes of communication; ensure the maintenance of the interpreting skills of qualified interpreters; and provide opportunities for interpreters to raise their skill level in order to meet the highest standards approved by certifying associations and to effectively meet the communication needs of individuals who are deaf or hard of hearing and individuals who are DeafBlind.

Program Authority: 29 U.S.C. 709(c) and 772(a) and (f).

Proposed Priority: This notice contains one proposed priority.

Interpreter Training in Specialty Areas

Background

The Department has long been committed to improving the delivery of vocational rehabilitation (VR) services to, and the employment outcomes of, individuals with disabilities who are deaf, hard of hearing, or DeafBlind ¹ and has funded interpreter training projects since 1974. In 2016, the Department funded four national projects to provide specialized training in the areas of dysfluent language competencies, behavioral health interpreting, pro-tactile American Sign Language (ASL), and preparing interpreters, especially those from communities of color and heritage signing backgrounds, to work in legal settings. The Department also funded a national project to provide experiential learning to novice interpreters and reduce the length of time between graduation and certification. Information about the 2016 interpreter training projects may be accessed through the Rehabilitation Services Administration's National Clearinghouse of Rehabilitation Training Materials (NCRTM) at ncrtm.ed.gov.

¹ “Individual who is deaf,” “individual who is hard of hearing,” and “individual who is deaf-blind” are defined in 34 CFR 396.4.

Further, the Rehabilitation Act continues to support the communication needs of individuals who are deaf, hard of hearing, or DeafBlind. The Rehabilitation Act requires that the State Plan establish and maintain minimum standards to ensure the availability of personnel within the designated State unit, to the maximum extent feasible, trained to communicate in the native language or mode of communication of an applicant or eligible individual (section 101(7)(C)). When this is not possible, such as for individuals who are deaf, hard of hearing, or DeafBlind, the services of interpreters trained to communicate using the native language or mode of communication of an applicant or eligible individual are used. Section 302(f) of the Rehabilitation Act addresses the need for providing interpreting services for individuals who are deaf, hard of hearing, or DeafBlind by authorizing grants for the training of interpreters.

To continue to effectively meet the communication needs of individuals who are deaf, hard of hearing, or DeafBlind, the Department proposes a priority to provide training to working interpreters (i.e., interpreters with a baccalaureate degree in ASL-English who possess a minimum of three years of relevant experience as an interpreter) in one of four specialty areas. This priority focuses on preparing interpreters to work in VR settings. According to the RSA-911,² in program year (PY) 2019, 7.43 percent (64,860) of all VR participants (872,643) were deaf, hard of hearing, or DeafBlind. Specifically, 2.6 percent were deaf, 4.68 percent were hard of hearing, and 0.15 percent were DeafBlind. The RSA-911 data show that interpreter services were used by 1,404 VR participants who achieved competitive integrated employment (CIE) outcomes in PY 2019, including 1,144 participants who are deaf, 231 participants who are hard of hearing, and 29 participants who are DeafBlind.

² RSA uses data collected through the Case Service Report (RSA-911) (OMB control number 1820-0508) for the State VR Services Program and the State Supported Employment (SE) Services Program to describe the performance of the VR and SE programs in the Annual Report to the Congress and the President as required by sections 13 and 101(a)(10) of the Rehabilitation Act.

Interpreter training in specific specialty areas is necessary to meet the ongoing and diverse needs of individuals who are deaf, hard of hearing, and DeafBlind. A 2015 Trends Survey documented 47 percent of service providers reporting an increase in the number of deaf individuals pursuing education or employment in specialized fields (Schafer and Cokely, 2016). Interpreters must be able to understand and communicate proficiently using technical vocabulary and highly specialized discourse in a variety of complex specialty areas in both ASL and English.

In order to effectively train working interpreters in specific specialty areas, we propose a priority that incorporates high-quality remote learning,³ field induction, mentorship, and coaching. Unlike spoken language majors, which often include a semester or year-long study abroad experience, many interpreting majors do not offer immersion opportunities. Classroom instruction alone is inadequate, and meaningful program interaction with diverse communities of deaf people is missing from most programs (Cokely and Cogen, 2015).

³ Remote learning means programming where at least part of the learning occurs away from the physical building in a manner that addresses a learner's educational needs. Remote learning may include online, hybrid/blended learning, or non-technology-based learning (e.g., lab kits, project supplies, paper packets). 85 FR 86550 (December 30, 2020)

Experiential learning theory, a learning style first introduced by David Kolb in 1984, describes the value of learning through experience and meaningful program interaction, such as induction, mentorship, and coaching (Bentley-Sassaman, 2014). Working interpreters can apply Kolb's experiential learning theory to enhance their professional growth and skills. Under Kolb's approach, there are four key abilities that create an effective learning cycle. These abilities include concrete experience (CE), reflective observation (RO), abstract conceptualization (AC), and active experimentation (AE). To achieve CE, working interpreters must involve themselves fully, openly, and without bias in new experiences. To achieve RO, working interpreters must reflect on and observe their experiences from many perspectives. To achieve AC, working interpreters must create concepts that integrate their observations into logically sound theories. Lastly, to achieve AE, working interpreters must use these theories to make decisions and solve problems (Bentley-Sassaman, 2014).

According to Bentley-Sassaman (2014), the majority of learning for ASL-English interpreters takes place in the field, where they have hands-on experiences and the guidance of a mentor. Mentoring refines skills development through observation and reflection and builds on the experiential learning component. Under a mentor's supervision, students have the opportunity to apply foundational knowledge and then gather feedback from their mentor and apply it to their next activity or interpretation assignment.

Through the proposed priority, the Secretary intends to award one national project in each of the following specialty areas: (1) Increasing skills of novice interpreters, (2) trilingual interpreting (including Spanish) (i.e., language fluency in first, second, and third languages with one of the three languages being ASL), and (3) advanced skills for working interpreters. In addition, the Secretary intends to award four national projects in a fourth specialty area, a field-initiated project.

With respect to Specialty Area (1) (increasing skills for novice interpreters), according to the National Interpreter Education Center (NIEC), challenges facing interpreter training and education programs are prevalent. In 2015, NIEC conducted a study to examine the disconnect between interpreter education and work-readiness (Cogen and Cokely, 2015). Its findings suggest that interpreter training and education programs have, in many instances, failed to produce ASL-fluent graduates. Graduates are generally unable to understand the English message and interpret it accurately from spoken English to ASL and from ASL to spoken English in a manner that is fluent and matches the source message in content, tone, and register.

Data gathered from the 2015 NIEC trends survey and two needs assessments revealed that newly graduated interpreters have a limited working ability to communicate in ASL and that the gap between interpreter graduation and readiness to work continues to grow. Furthermore, trends survey data suggests that recent graduates from interpreter education programs do not have access to structured post-graduation pathways, which threatens work-readiness and puts interpreters and their future consumers at an increased risk (Cogen and Cokely, 2015).

With respect to Specialty Area (2) (trilingual interpreting (including Spanish)), in 2015, the Census Bureau estimated that over 60 million U.S. residents speak a language other than English at home. In a 2018 study, the University of Texas at Austin examined 60 interpreter training programs (ITPs) across nine States and one territory, with 31 programs responding, to examine the incorporation of curricula focused on Spanish language within interpreter settings in the U.S. (Quinto-Pozos et al., 2018). The study revealed that 90 percent of interpreter training program students were from non-English speaking homes, 88 percent of whom were from Spanish speaking homes. Only 32 percent of respondents indicated that their ITP contained content and training on interpreting in settings where languages other than ASL and English are used. None of the ITPs surveyed offered certificates or degree programs specifically focused on languages other than ASL or English.

The National Consortium for Interpreter Education Centers (NCIEC), funded by the Department, developed curricula for professional development in Spanish-influenced settings, and the National Multicultural Interpreter Program (NMIP) created curriculum for interpreters in multicultural and multilingual settings (Quinto-Pozos et al., 2018). The NCIEC and NMIP curricula are publicly available and free of cost. Survey results from the University of Texas at Austin indicated that only 45 percent of ITPs reported using NCIEC curricula, and only 33 percent of ITPs reported using NMIP curriculum, respectively. Despite the accessibility of the curricula, only a minority of ITPs currently incorporate the content into their programs. We also believe there may be parts of the country where multiple languages are spoken by deaf individuals and individuals who are hard of hearing. Therefore, applicants may address multiple language combinations in their proposals.

With respect to Specialty Area (3) (advanced skills for working interpreters), it is crucial for interpreters to continue to improve their working knowledge and skills and stay up to date on ethical considerations in interpreting. According to the RSA-911 data, in program year (PY) 2019 employment outcomes for individuals who are deaf, hard of hearing, and DeafBlind were 60 percent, 82 percent, and 47 percent, respectively. Employment outcomes for the overall population of individuals receiving VR services was 43 percent in PY 2019. As employment possibilities and opportunities for individuals who are deaf, hard of hearing, and DeafBlind grow, more individuals are pursuing advanced degrees and working in specialized professions. Cogen and Cokely (2015) documented a notable increase in individuals who are deaf or hard of hearing and are pursuing careers in specialized areas such as law, medicine, engineering, and high-tech industry. For this reason, interpreters with advanced skills and knowledge of highly specialized terminology, discourse, and emerging areas of ASL are needed. Currently, it is difficult to find interpreters who have the knowledge and linguistic range in both English and ASL to interpret in highly specialized areas. The 2015 NIEC trends survey indicated that 87 percent of respondents found it difficult to find qualified interpreters (Schafer and Cokely, 2016). Furthermore, interpreters working in advanced and specialized professions must be trained and competent in ethical considerations of advanced study and specialized professions.

With respect to Specialty Area (4) (field initiated), projects must be designed to develop training for interpreters in areas where no training currently exists, where the existing training is no longer current or relevant, or to enhance training in an area that has received increased emphasis under the Rehabilitation Act. Field-initiated topics that would not be eligible under this proposed priority and requirements include, for example, topics focusing on educational interpreting for pre-kindergarten (pre-k) to grade 12 students and other topics that are not related to interpreting for individuals receiving VR services. While there is emphasis in the Workforce Innovation and Opportunity Act (WIOA) on providing services and support to transition-age youth, the purpose of this program is to train interpreters to serve consumers in the rehabilitation process. The Department has other resources to support programs preparing pre-K to grade 12 personnel, including, for example, grant awards under the Individuals with Disabilities Education Act Personnel Preparation in Special Education, Early Intervention, and Related Services program, which includes funding to train personnel who serve school-age children with low incidence disabilities, such as visual impairments, hearing impairments, and simultaneous visual and hearing impairments.

Under Specialty Area (4), the Department's interest is in, but is not limited to, the following topic areas:

Topic area (a) (interpreting in healthcare including interpreting for hard-to-serve populations) would address the increased need for interpreters within medical, behavioral, and mental health settings as well as settings where domestic violence or substance abuse issues are present. Individuals who are deaf, hard of hearing, and DeafBlind need access to both interpreting services and qualified interpreters trained in specialized medical settings. In the 2015 NCIEC Trends Report, 89 percent of respondents indicated that it is “somewhat” to “very difficult” to find interpreters who have the skills, knowledge, and training to effectively serve individuals with mental health concerns (Cogen and Cokely, 2015).

In 2009, a comparison report was developed reflecting a deaf consumer needs assessment from two composite groups (Cokely and Winston, 2009). Data was collected through 1,250 electronic surveys from deaf consumers through the National Association for the Deaf (NAD). Data was also collected through focus group and interview sessions with 61 individual consumers not typically associated with NAD membership. In both composite groups, the highest number of respondents identified “health” settings as the most difficult, as well as the most important, for securing interpreting services. Cokely and Winston (2009) explain the need to better understand health-related sub-settings and the various factors that make it difficult to attain interpreter services in those settings so access to both interpreting services and qualified interpreters may be increased.

Topic area (b) (interpreting for individuals who are DeafBlind) would build upon the 2016 grant to train interpreters to meet the growing needs of individuals who are DeafBlind and increase their autonomy and self-determination. Techniques for interpreting for individuals who are DeafBlind include, print on palm (POP), tactile sign language, tracking, tactile fingerspelling, Tadoma, pro-tactile American sign language (PTASL), and others. Interpreting for individuals who are DeafBlind is a skilled practice that requires the expansion of the typical interpreter role. Qualified DeafBlind interpreters provide visual environmental information, modify the signing space, manage the distance between consumer and interpreter, regulate pacing, and understand the importance of appropriate clothing in accommodating individuals who are DeafBlind (Interpreter Resources, 2020). As of 2018, there were approximately 150 Interpreter Training Programs in the United States, only six of which offered coursework dedicated to DeafBlind interpreting (DeafBlind Interpreting, 2018). The lack of learning opportunities has yielded a very limited pool of interpreters with expertise in this specialization. Most ITP students exit educational programs with limited or no skills in the specialization (DeafBlind Interpreting, 2018). A grant under this topic area could focus on any one of the stated techniques for interpreting for individuals who are DeafBlind.

Topic area (c) (atypical language interpreting) would build on the 2016 grant to improve services for individuals who are not skilled users of ASL. At the time of this notice, 31 working interpreters have completed the program of study and induction, another 19 have completed training, and 18 are engaged in induction. To date, 3,304 working interpreters enrolled in self-directed training with 1,121 having successfully completed at least one of the four modules. There is also a need to expand such services to the senior deaf population who may use older signs or suffer from dementia, and to individuals from foreign countries who do not yet use ASL fluently.

For topic area (d) (other topics), applicants must demonstrate the need for the training in a proposed new topic area or, in areas for which there is existing training, demonstrate that the existing training is not adequately meeting the needs of interpreters working in the field of VR.

Nothing in the proposed priority and requirements would alter an applicant's or grantee's obligations to comply with nondiscrimination requirements in the U.S. Constitution and Federal civil rights laws, including nondiscrimination on the basis of race or ethnicity, among other bases.

References

Bentley-Sassaman, J. “The Experiential Learning Theory and Interpreter Education.” International Journal of Interpreter Education. (2014): 62-67.

Cogen, C., M.Ed., and Cokely, D. “Preparing Interpreters for Tomorrow: Report on a Study of Emerging Trends in Interpreting and Implications for Interpreter Education.” National Interpreter Education Center at Northeastern University. (2015).

Cokely, D. and Winston, E. “Comparison Report. Phases I & II, Deaf Consumer Needs Assessment.” The National Consortium of Interpreter Education Centers. (2009): 18-22.

“DeafBlind Interpreting: Toward Effective Practice.” DeafBlind Interpreting National Training and Resource Center at Western Oregon University. (2018): 1-177.

“Interpreter Resources: Interpreters for the Deaf-Blind.” RIT Libraries. (2020)

Quinto-Pozos, D., Martinez, M., Suarez, A., and Zech, R. “Beyond Bilingual Programming: Interpreter Education in the U.S. Amidst Increasing Linguistic Diversity.” International Journal of Interpreter Education. 10(1) (2018): 46-59.

Schafer, T., MPA. MIP, Center Director, and Cokely, D., Ph.D., Principal Investigator, “Report on the National Needs Assessment Initiative New Challenges-Needed Challenges.” National Interpreter Education Center at Northeastern University. (March 2016).

Proposed Priority

The purpose of this proposed priority is to fund projects that provide training to working interpreters in one of four specialty areas to effectively meet the communication needs of individuals who are deaf or hard of hearing and individuals who are DeafBlind receiving VR services. The projects must achieve, at a minimum, the following outcomes: An increase in the number of interpreters who are trained to work with deaf VR consumers who require specialized interpreting; and an increase in the number of interpreters trained in specialty areas who obtain or advance in employment in the areas for which they were prepared.

Application Requirements

The Department proposes the following requirements for this activity. We may apply one or more of these requirements in any year in which this activity is in effect. RSA encourages innovative approaches to meet these requirements:

(a) Demonstrate, in the narrative section of the application under “Significance of the Project,” how the proposed project will address the need for sign language interpreters in a specialty area. To address this requirement, applicants must:

(1) Present applicable data demonstrating the need for interpreters in the specialty area for which training will be developed by the project and delivered in at least three distinct, noncontiguous geographic areas, which may include the U.S. Territories;

(2) Present baseline data for the number or estimated number of working interpreters currently trained in the specialty area. In the event that an applicant proposes training in a new specialty area that does not currently exist or for which there are no baseline data, the applicant should provide an adequate explanation of the lack of reliable data and may report zero as a baseline;

(3) Explain how the project will increase the number and quality of working interpreters in a specialty area who demonstrate the necessary competencies to meet the communication needs of individuals who are deaf, hard of hearing, or DeafBlind. To meet this requirement, the applicant must—

(i) Identify competencies that working interpreters must demonstrate in order to provide high-quality services in the identified specialty area using practices that demonstrate a rationale or are based on instruction supported by evidence, when available; and

(ii) Demonstrate that the identified competencies are based on practices that demonstrate a rationale or are supported by evidence that will result in effectively meeting the communication needs of individuals who are deaf, hard of hearing, or DeafBlind.

(b) Demonstrate, in the narrative section of the application under “Quality of Project Design,” how the proposed project will—

(1) Develop a new training program or stand-alone modules and conduct a pilot by the end of the first year of the project. Applicants must provide justification in their application if they determine additional time may be necessary to fully develop and pilot the curricula before the end of the first year. The training program or stand-alone modules must contain remote learning (as defined in this priority) experiences that advance engagement and learning (e.g., synchronous and asynchronous professional learning, professional learning networks or communities, and coaching) that could also be incorporated into an existing baccalaureate or graduate degree ASL-English (or ASL-other spoken language) program, as appropriate. Applicants may choose to award continuing education credits (CEUs) or college or master's level credits to participants in the training program. Applicants should note that while pre-service training is not the focus of this program, a variety of resources may be considered (such as available pre-service training material) that may inform, support, or strengthen the development of training for ASL-English interpreter training in specialized areas.

(2) Deliver the training or stand-alone modules remotely to at least three distinct, noncontiguous geographic areas identified in paragraph (a)(1) of these application requirements in years two, three, four and five of the project. Applicants may also deliver in-person training, as appropriate, to support participants' application of knowledge, skills, and competencies gained through online training.

(3) Provide mentoring and coaching to participants, as needed. This may include, but is not limited to, one-on-one instruction to address specific areas identified by an advisor as needing further practice, and providing written feedback from observed interpreting situations, from deaf consumers, from trained mentors, including written feedback from mentoring sessions, and from others, as appropriate;

(4) Develop a self-directed track and make it available to the public for independent remote learning by the end of the second year of the project. Applicants must develop a curriculum guide for each module and make available relevant materials from the training program. Applicants may offer CEUs to participants who successfully complete the self-directed track;

(5) Be based on current research and make use of practices that demonstrate a rationale or are supported by promising evidence (as defined in 34 CFR 77.1). To meet this requirement, the applicant must describe—

(i) How the proposed project will incorporate current research and practices that demonstrate a rationale or are supported by promising evidence in the development and delivery of training and in the development of products and materials;

(ii) How the proposed project will ensure that working interpreters interact with individuals with disabilities who are deaf, hard of hearing, or DeafBlind and have a range of communication skills, from those with limited language skills to those with high-level, professional language skills, as appropriate.

(c) In the narrative section of the application under “Quality of Project Services,” the applicant must—

(1) Demonstrate how the project will ensure equal access and treatment for eligible project participants who are members of groups who have traditionally been underrepresented based on race, color, national origin, gender, age, or disability;

(2) Describe the criteria that will be used to identify applicants for participation in the program, including any pre-assessments that may be used to determine the skill, knowledge base, and competence of the working interpreter;

(3) Describe how the project will outreach ⁴ to working interpreters, especially working interpreters from rural areas, Indian Tribes, and traditionally underrepresented groups;

⁴ When preparing outreach and recruitment materials, selection criteria for training programs, as well as criteria for selecting trainers employed under the grant, applicants should cast a wide net for participants of all races and not preclude participation based on race, color, or national origin.

(4) Describe how the project will provide feedback, resources, and next steps to applicants who may not be accepted into the program due to insufficient skills, knowledge base, and competence;

(5) Describe the approach that will be used to enable more working interpreters to participate in and successfully complete the training program, specifically participants who need to work while in the program, have child care or elder care considerations, or live in geographically isolated areas;

(6) Describe how the project will incorporate adult learning principles and practices that demonstrate a rationale or are supported by promising evidence for adult learners;

(7) Demonstrate how the project is of sufficient scope, intensity, and duration to adequately prepare working interpreters in the identified specialty area of training. To address this requirement, the applicant must describe how—

(i) The components of the proposed project will support working interpreters' acquisition and enhancement of the competencies identified in paragraph (a)(2)(i) of these application requirements;

(ii) The components of the project will provide working interpreters opportunities to apply their content knowledge in a variety of practical settings;

(iii) The proposed project will establish induction experiences in the specialty area for participants as a requirement for completion in the training program. Applicants may determine the appropriate scope and length of time for the induction;

(8) Demonstrate how the proposed project will actively engage representation from consumers, consumer organizations, and service providers, especially State VR agencies and their partners, interpreters, interpreter educators, and individuals who are deaf, hard of hearing, or DeafBlind in all aspects of the project;

(9) Describe how the project will conduct dissemination, coordination, and communication activities. To meet this requirement, the applicant must—

(i) Disseminate information to working interpreters about training available in specialized areas and to State VR agencies and their partners, American Job Centers, and other workforce partners about how to locate specialized interpreters in their State and local areas;

(ii) Establish a state-of-the-art website or modify an existing website for communicating with participants and stakeholders and ensure that all material developed by the grant and posted on the website are accessible to individuals with disabilities in accordance with section 504 of the Rehabilitation Act of 1973 and title II of the Americans with Disabilities Act, as applicable. The website must provide a central location for all material related to the project, such as reports, training curricula, audiovisual materials, webinars, communities of practice, and other relevant material developed by the grant;

(iii) Disseminate information about the project, including, but not limited to, products such as training curricula, presentations, reports, effective practices for training working interpreters in specialized areas, and other relevant information through the NCRTM;

(iv) In the final year of the budget period, ensure that all training materials have been provided to the NCRTM and the website and IT platform can be sustained, or coordinate with RSA to transition the website to the NCRTM;

(v) Establish one or more communities of practice in the specialty area of training that focuses on project activities in this priority and acts as a vehicle for communication and exchange of information among participants in the program and other relevant stakeholders;

(vi) Communicate, collaborate, and coordinate with other relevant Department-funded projects, as applicable;

(vii) Maintain ongoing communication with the RSA project officer and other RSA staff as required; and

(viii) Communicate, collaborate, and coordinate, as appropriate, with key staff in State VR agencies, such as the State Coordinators for the Deaf; State and local partner programs; consumer organizations and associations, including those that represent individuals who are deaf, hard of hearing, or DeafBlind; and relevant RSA partner organizations and associations; and

(ix) Disseminate to baccalaureate or graduate degree ASL-English programs, as well as to relevant Department-funded programs and Federal partners, as applicable, the training material and products for incorporation into existing curricula, as well as products, effective practices for training working interpreters in specialized areas, challenges and solutions, results achieved, and lessons learned. To satisfy this requirement, the grantee must develop participant guides, implementation materials, toolkits, manuals, and other relevant material for interpreter educators and others, as appropriate, to incorporate or build into existing programs.

(d) In the narrative section of the application under “Quality of the Evaluation Plan,” include an evaluation plan. To meet this requirement, the evaluation plan must describe—

(1) Standards and targets for measuring the effectiveness of the program;

(2) An approach for measuring knowledge, skills, and competencies before and after successful completion of training;

(3) An approach for gathering information from participants about their knowledge of VR, estimated percentage of workload interpreting for VR consumers before specialty training, and estimated percentage of workload interpreting for VR consumers who are deaf, hard of hearing, and DeafBlind after specialty training;

(4) An approach for incorporating oral and written feedback from trainers and deaf consumers, and any feedback from coaching or mentoring sessions conducted with the participants;

(5) Methodologies, including instruments, data collection methods, and analyses that will be used to evaluate the project and how the methods of evaluation will produce quantitative and qualitative data to demonstrate whether the project activities achieved their intended outcomes;

(6) Measures of progress in implementation, including the extent to which the project activities and products have reached their intended recipients, measures of intended outcomes or results in order to evaluate those activities, and how well the goals and objectives of the proposed project, as described in the logic model (as defined in 34 CFR 77.1), have been met; and how well the goals and objectives of the proposed project, as described in its logic model have been met;

(7) How the evaluation will be coordinated, implemented, and revised, as needed, during the project. The applicant must designate at least one individual with sufficient dedicated time, demonstrated experience in evaluation, and knowledge of the project to coordinate and conduct the evaluation. This may include, but is not limited to, making revisions post award in order to reflect any changes or clarifications, as needed, to the model and to the evaluation design and instrumentation with the logic model (e.g., designing instruments and developing quantitative or qualitative data collections that permit collecting of progress data and assessing project outcomes);

(8) How evaluation results will be used to examine the effectiveness of the training. To address this requirement, applicants must provide an approach for determining—

(i) What practice(s) was most effective in training working interpreters in the respective specialty area; and

(ii) What practice(s) was most effective in narrowing working interpreters' skill gaps and what data demonstrates the practice(s) was effective.

(e) Demonstrate, in the narrative section of the application under “Adequacy of Project Resources,” how—

(1) The proposed project will encourage applications for employment with the project from persons who are members of groups that have historically been underrepresented based on race, color, national origin, gender, age, or disability;

(2) Describe any proposed consultants or contractors named in the application, their areas of expertise, and provide a rationale to demonstrate the need;

(3) Describe costs associated with technology, including, but not limited to, maintaining an online learning platform, state-of-the-art archiving and dissemination platform, and communication tools (i.e., Microsoft Teams, Zoom, Google, Amazon Chime, Skype, etc.) ensuring all products and services are accessible to individuals with disabilities in accordance with section 504 of the Rehabilitation Act of 1973 and title II of the Americans with Disabilities Act, as applicable, including costs associated with captioning and transcription services, and cybersecurity; and

(4) The applicant and any identified partners have adequate resources to carry out the proposed activities.

(f) Demonstrate, in the narrative section of the application under “Quality of the Management Plan,” how the applicant will ensure that—

(1) The project's intended outcomes, including the evaluation, will be achieved on time and within budget, through—

(i) Clearly defined responsibilities of key project personnel, consultants, and contractors, as applicable;

(ii) Procedures to track and ensure completion of the action steps, timelines, and milestones established for key project activities, requirements, and deliverables;

(iii) Internal monitoring processes to ensure that the project is being implemented in accordance with the established application and project plan; and

(iv) Internal financial management controls to ensure accurate and timely obligations, drawdowns, and reporting of grant funds, as well as monitoring contracts, in accordance with the Uniform Administrative Requirements, Cost Principles, and Audit Requirements for Federal Awards at 2 CFR part 200 and the terms and conditions of the Federal award.

(2) The allocation of key project personnel, consultants, and contractors, as applicable, including levels of effort of key personnel that are appropriate and adequate to achieve the project's intended outcomes, including an assurance that key personnel will have enough availability to ensure timely communications with stakeholders and RSA;

(3) The products and services are of high quality, relevance, and usefulness, in both content and delivery;

(4) The proposed project will benefit from a diversity of perspectives; and

(5) Projects will be operated in a manner consistent with nondiscrimination requirements contained in the U.S. Constitution and the Federal civil rights laws;

(g) Address the following application requirements. The applicant must—

(1) Include, in Appendix A, a logic model that depicts, at a minimum, the goals, activities, outputs, and short and long-term outcomes of the proposed project, and

(2) Include, in Appendix A, person-loading charts and timelines, as applicable, to illustrate the management plan described in the narrative.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority and Requirements

We will announce the final priority and requirements in a document in the Federal Register. We will determine the final priority and requirements after considering responses to the proposed priority and requirements, and other information available to the Department. This document does not preclude us from proposing additional priorities, requirements, definitions, or selection criteria, subject to meeting applicable rulemaking requirements.

Note: This document does not solicit applications. In any year in which we choose to use the proposed priority and requirements, we invite applications through a notice in the Federal Register.

Executive Orders 12866 and 13563

Regulatory Impact Analysis

Under Executive Order 12866, the Office of Management and Budget (OMB) determines whether this regulatory action is “significant” and, therefore, subject to the requirements of the Executive order and subject to review by OMB. Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are proposing the priority and requirements only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities. The costs would include the time and effort in responding to the priority and requirements for entities that choose to respond. In addition, we have considered the potential benefits of this regulatory action and have noted these benefits in the background section of this document.

Clarity of the Regulations

Executive Order 12866 and the Presidential memorandum “Plain Language in Government Writing” require each agency to write regulations that are easy to understand.

The Secretary invites comments on how to make the proposed priority and requirements easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections?

• Could the description of the proposed regulations in the SUPPLEMENTARY INFORMATION section of this preamble be more helpful in making the proposed regulations easier to understand? If so, how?

• What else could we do to make the proposed regulations easier to understand?

To send any comments that concern how the Department could make these proposed regulations easier to understand, see the instructions in the ADDRESSES section.

Regulatory Flexibility Act Certification: The Secretary certifies that this proposed regulatory action would not have a significant economic impact on a substantial number of small entities. The U.S. Small Business Administration Size Standards define “small entities” as for-profit or nonprofit institutions with total annual revenue below $7,000,000 or, if they are institutions controlled by small governmental jurisdictions (that are comprised of cities, counties, towns, townships, villages, school districts, or special districts), with a population of less than 50,000.

The small entities that this proposed regulatory action would affect are public or private nonprofit agencies and organizations, including Indian Tribes and IHEs that may apply. We believe that the costs imposed on an applicant by the proposed priority and requirements would be limited to paperwork burden related to preparing an application and that the benefits of the proposed priority and requirements would outweigh any costs incurred by the applicant. There are very few entities that could provide the type of technical assistance required under the proposed priority and requirements. For these reasons, the proposed priority and requirements would not have a significant impact on a substantial number of small entities.

Paperwork Reduction Act of 1995: The proposed priority and requirements contain information collection requirements that are approved by OMB under OMB control number 1820-0018. The proposed priority and requirements do not affect the currently approved data collection.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

David Cantrell,
Deputy Director, Office of Special Education Programs. Delegated the Authority To Perform the Functions and Duties of the Assistant Secretary for the Office of Special Education and Rehabilitative Services.

[FR Doc. 2021-04369 Filed 2-26-21; 4:15 pm]

BILLING CODE 4000-01-P